FEDERAL COMMUNICATIONS COMMISSION

Public Information Collection Requirement Submitted to OMB for Emergency Review and Approval

March 4, 2008.

SUMMARY: The Federal Communications Commission, as part of its continuing effort to reduce paperwork burden, invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before March 12, 2008. If you anticipate that you will be submitting comments, but find it difficult to do so within the period of time allowed by this notice, you should advise the contacts listed below as soon as possible.

ADDRESSES: Direct all PRA comments to Nicholas A. Fraser, Office of Management and Budget, via e-mail to nfraser@omb.eop.gov or via fax at 202-395-5167, and to the Federal Communications Commission via e-mail to PRA@fcc.gov or by U.S. mail to Jerry Cowden, Federal Communications Commission, Room 1-B135, 445 12th Street, SW., Washington, DC 20554.

FOR FURTHER INFORMATION CONTACT: For additional information contact Jerry Cowden via e-mail at PRA@fcc.gov or at 202-418-0447. To view or obtain a copy of this information collection request (ICR) submitted to OMB: (1) Go to this OMB/GSA Web page: http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title “Information Needed in Requests for Waiver of June 26, 2008 Deadline for Rebanding Completion” and then click on the ICR Reference Number above it. A copy of the FCC submission to OMB will be displayed.

SUPPLEMENTARY INFORMATION: The Commission is requesting emergency OMB processing of this information collection and has requested OMB approval by March 14, 2008.

OMB Control Number: None.

Title: Information Needed in Requests for Waiver of June 26, 2008 Deadline for Rebanding Completion.

Form No.: Not applicable.

Type of Review: New collection.

Respondents: State, local or tribal governments; private sector.

Number of Respondents: 780 respondents; 1080 responses.

Estimated Time Per Response: 0.861 hour.

Frequency of Response: One to two-time reporting.

Obligation to Respond: Required to obtain or retain benefits.

Total Annual Burden: 930 hours.

Total Annual Cost: $62,400.

Nature and Extent of Confidentiality: The Commission will work with respondents to ensure that their concerns regarding the confidentiality of any proprietary or public safety-sensitive information are resolved in a manner consistent with the Commission's rules. See 47 CFR 0.459.

Privacy Act Impact Assessment: This information collection does not affect individuals or households, and therefore a privacy impact assessment is not required.

Needs and Uses: The information collection sought will enable the Commission to implement its rebanding program. Under that program, certain licensees are being relocated to new frequencies in the 800 MHz band, with all rebanding costs to be paid by Sprint Nextel Corporation (Sprint). The Commission's overarching objective in this proceeding is to eliminate interference to public safety communications. The Commission's orders provided for the 800 MHz licensees in non-border areas to complete rebanding by June 26, 2008. Those Orders also adopted various information collection requirements necessary to implement 800 MHz incumbent relocation, which have been approved by OMB (See OMB Control Number 3060-1080). Incumbent licensees may request a waiver of the relocation schedule. The Public Notice at issue here provides licensees guidance on what information they should submit as part of those waiver requests.

On January 17, 2008, the Commission released a Public Notice that established that any 800 MHz non-border licensee that will require additional time past June 26, 2008 to complete rebanding must request a waiver. The Commission stated that the “guidance contained in this Public Notice is intended to expedite both the preparation and submission of waiver requests by licensees as well as the review of such requests by the Bureau, consistent with the Commission's overarching goal of ensuring that rebanding is accomplished in a reasonable, prudent, and timely manner.” The deadlines for filing waiver requests are March 17, 2008, for licensees in Waves 1 and 2 and April 15, 2008, for licensees in Wave 3. Licensees may also file interim waiver requests until they file a waiver request that will include a proposed rebanding timetable.

The Commission will make use of electronic collection techniques. It is expected that all respondents will employ electronic correspondence to submit their responses. To further ease the burden imposed by this information collection, respondents are encouraged to make use of template forms created for the purpose of this collection. Those forms are publicly available.

Information will be sought concerning public safety systems that are being relocated to new frequencies under the Commission's 800 MHz rebanding program. We encourage licensees that are part of a regional coordination plan or that are otherwise coordinating their rebanding efforts to file coordinated requests as well as individual requests for each member of the regional coordination plan. We recommend that licensees address the following factors in their request: (1) System size and complexity; (2) interoperability with other systems, and how such interoperability will affect the ultimate rebanding schedule; and (3) steps already taken to complete physical reconfiguration, including participation in the Subscriber Equipment Deployment (SED) program and participation in a TA-sponsored regional planning session in its Public Safety Region (or commitment to participate in such a session). Licensees should provide a proposed timetable that includes the following elements: (1) What steps in the rebanding process have been or will be taken prior to the June 26, 2008 deadline; (2) anticipated dates of commencement and completion of (a) replacement or retuning of mobiles/portables, and (b) infrastructure retuning; (3) the anticipated date(s) that the licensee will commence operations on its post-rebanding channels and stop operations on its pre-rebanding channels; (4) additional rebanding steps that the licensee must take after commencement of operations on rebanded channels (e.g., removing old channels from radios) and the anticipated date for completion of these steps. The 800 MHz Transition Administrator has developed a template form for licensee use to provide the above information in their waiver requests. To expedite licensee preparation of requests and Bureau review, we recommend that licensees use this template in preparing their requests. Licensees that are unable to propose a specific timetable because they have not executed a Frequency Reconfiguration Agreement (FRA) with Sprint by the applicable deadline for filing a waiver request should file an interim extension request. The interim extension request should (1) state when the licensee anticipates having an FRA and (2) when the licensee anticipates filing a final waiver request that will include a proposed timetable as described above.

Federal Communications Commission.
Marlene H. Dortch,
Secretary.

[FR Doc. E8-4597 Filed 3-6-08; 8:45 am]

BILLING CODE 6712-01-P